DEPARTMENT OF ENERGY

Federal Energy Regulatory Commission

[Docket No. ER03-325-000, et al.]

Central Illinois Company, et al.; Electric Rate and Corporate Filings

January 8, 2003.

The following filings have been made with the Commission. The filings are listed in ascending order within each docket classification.

1. Central Illinois Light Company

[Docket Nos. ER03-325-000 and EL03-39-000]

Take notice that on December 23, 2002, Central Illinois Light Company (CILCO), 300 Liberty Street, Peoria, Illinois 61602, tendered for filing with the Commission a proposed delineation of transmission and local distribution facilities.

CILCO states that copies of the filing were served on the Illinois Commerce Commission.

Comment Date: January 22, 2003.

2. Midwest Independent Transmission System Operator, Inc. American Transmission Company LLC

[Docket No. ER03-362-001]

Take notice that on January 6, 2003, the Midwest Independent Transmission System Operator, Inc., (Midwest ISO) tendered for filing an errata to its December 31, 2002 filing, which proposed changes to its Open Access Transmission Tariff, FERC Electric Tariff, Second Revised Volume No. 1, to revise its formula rate to reflect changes to certain rate calculations applicable to the American Transmission Company LLC (ATCLLC) rate zone (Zone 1). The errata replaces the redline version of the proposed tariff sheets.

The Midwest ISO seeks waiver of the Commission's regulations, 18 CFR 385.2010 (2000) with respect to service on all required parties. The Midwest ISO has posted this filing on its Internet site at http://www.midwestiso.org, and the Midwest ISO or ATCLLC will provide hard copies to any interested parties upon request.

Comment Date: January 27, 2003.

3. Southern Company Services, Inc.

[Docket No. ER03-379-000]

Take notice that on January 6, 2003, Southern Company Services, Inc. (SCS), acting on behalf of Alabama Power Company, Georgia Power Company, Gulf Power Company, Mississippi Power Company, and Savannah Electric and Power Company (collectively, Southern Companies), filed an unexecuted transmission service agreement under the Open Access Transmission Tariff of Southern Companies (FERC Electric Tariff, Fourth Revised Volume No. 5) (Tariff). Specifically, Southern Companies filed an unexecuted rollover agreement for long-term firm point-to-point transmission service (First Revised Service Agreement No. 451 under the Tariff) with Williams Energy Marketing & Trading Company.

Comment Date: January 27, 2003.

4. Tampa Electric Company

[Docket No. ER03-380-000]

Take notice that on January 6, 2003, Tampa Electric Company (Tampa Electric) tendered for filing notices of cancellation of rate schedules for three agreements with Florida Power Corporation (FPC) concerning construction or operation and maintenance of interconnection facilities. Tampa Electric states that the agreements are outdated and that the parties have agreed to their termination and cancellation of the associated rate schedules.

Tampa Electric proposes that the cancellations be made effective on October 1, 2002. Tampa Electric states that copies of the filing have been served on FPC and the Florida Public Service Commission.

Comment Date: January 27, 2003.

5. Cleco Power LLC

[Docket No. ER03-381-000]

Take notice that on January 6, 2003, Cleco Power LLC, tendered for filing Fourth Revised Sheet Nos. 77 and 78, an Attachment E, from Cleco Power's open access transmission tariff, titled “Index of Point-to-Point Transmission Service Customers”, to include Union Power Partners, L.P. as a short-term firm and non-firm transmission customer. Cleco Power LLC and Union Power Partners, L.P. have executed agreements under which Cleco Power will provide short-term firm point-to-point transmission service and non-firm point-to-point transmission service to Union Power Partners, L.P. under its Open Access Transmission Tariff.

Comment Date: January 27, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1030 Filed 1-15-03; 8:45 am]

BILLING CODE 6717-01-P